COMMITTEE FOR PURCHASE FROM PEOPLE WHO ARE BLIND OR SEVERELY DISABLED

Procurement List; Proposed additions and deletions

AGENCY: Committee for Purchase from People Who Are Blind or Severely Disabled.

ACTION: Proposed Additions to and Deletions from Procurement List.

SUMMARY: The Committee is proposing to add to the Procurement List services to be furnished by nonprofit agencies employing persons who are blind or have other severe disabilities, and to delete products and services previously furnished by such agencies.

Comments Must Be Received On or Before: March 16, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each service will be required to procure the services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

The following services are proposed for addition to the Procurement List for production by the nonprofit agencies listed:

Services

Service Type/Location: Custodial Service, Naval & Marine Corps Reserve Center, St. Louis, Missouri.

NPA: MGI Services Corporation, St. Louis, Missouri.

Contract Activity: Naval Facilities Engineering Command, Crane, Indiana.

Service Type/Location: Mailroom Operation, Social Security Administration. Sam Nunn Federal Building, Atlanta, Georgia.

NPA: Nobis Enterprises, Inc., Marietta, Georgia.

Contract Activity: Social Security Administration, Region IV, Atlanta, Georgia.

Service Type/Location: Food Service Attendant, U.S. Navy Sub Base, Galley 446, Groton, Connecticut.

NPA: CW Resources, Inc., New Britain, Connecticut.

Contract Activity: Fleet Industrial Supply Center, Norfolk Detachment Philadelphia, Philadelphia, Pennsylvania.

Deletions

I certify that the following action will not have a significant impact on a substantial number of small entities. The major factors considered for this certification were:

1. If approved, the action will not result in any additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

The following products and services are proposed for deletion from the Procurement List:

Products

Product/NSN: Seal, Metallic

5340-00-491-7632

5340-00-902-0426.

NPA: Michiana Resources, Inc, Michigan City, Indiana.

Contract Activity: Defense Supply Center Philadelphia, Philadelphia, Pennsylvania.

Services

Service Type/Location: Commissary Shelf Stocking, Point Mugu Naval Air Station, Point Mugu, California.

NPA: Association for Retarded Citizens—Ventura County, Inc., Ventura, California.

Contract Activity: Defense Commissary Agency, Fort Lee, Virginia.

Service Type/Location: Commissary Shelf Stocking & Custodial, Fort Shafter, Hawaii.

NPA: Goodwill Industries of Hawaii, Inc., Honolulu, Hawaii.

Contract Activity: Defense Commissary Agency, Fort Lee, Virginia.

Service Type/Location: Commissary Shelf Stocking & Custodial, Presidio of San Francisco Commissary, San Francisco, California.

NPA: Calidad Industries, Inc., Oakland, California.

Contract Activity: Defense Commissary Agency, Fort Lee, Virginia.

Service Type/Location: Drill Sharpening, Naval Supply Center, San Diego, California.

NPA: The ARC of San Diego, San Diego, California.

Contract Activity: Department of the Navy, San Diego, California.

Service Type/Location: Janitorial/Custodial, Mare Island Naval Shipyard, Vallejo, California.

NPA: V-Bar Enterprises, Inc., Suisun City, California.

Contract Activity: Department of the Navy, Vallejo, California.

Service Type/Location: Janitorial/Custodial, Veterans Affairs Community Based Outpatient Clinic, St. George, Utah.

NPA: Washington County Association for Retarded Citizens, St. George, Utah.

Contract Activity: Department of Veterans Affairs, St George, Utah.

Sheryl D. Kennerly,
Director, Information Management.

[FR Doc. 03-3732 Filed 2-13-03; 8:45 am]

BILLING CODE 6353-01-P